DEPARTMENT OF AGRICULTURE

Forest Service

Wallowa-Whitman National Forest; Oregon; Lower Joseph Creek Restoration Project

AGENCY: Forest Service, USDA.

ACTION: Notice of intent to prepare an environmental impact statement.

SUMMARY: In the Lower Joseph Creek Restoration Project area, decades of fire suppression and past land management activities have resulted in overstocked stand conditions, reduced forage productivity, degraded wetlands and springs, reduced grassland extent, and increased ladder fuels relative to historic reference and anticipated future conditions. Dry and moist upland forest types in the project area are showing a deficit of open stands dominated by large trees of ponderosa pine, larch, and Douglas-fir. Standing and down dead trees were also an important component of these stands. The purpose of the Lower Joseph Creek Restoration Project is to restore, maintain, and enhance forest and rangeland resiliency to natural disturbances, protect natural resources at risk to uncharacteristic wildfires and insect and disease outbreaks, contribute to local economic and social vitality, modify fire behavior potential, and improve future forest, range, and fire management opportunities. The USDA Forest Service will prepare an Environmental Impact Statement (EIS) to disclose the potential environmental effects of implementing restoration treatments on National Forest System lands within the project area.

DATES: Comments concerning the scope of the analysis must be received by 30 days following the date that this notice appears in the Federal Register. The draft environmental impact statement is expected July 2014 and the final environmental impact statement is expected December 2014. The comment period on the Draft Environmental Impact Statement will close 45 days after the date the EPA publishes the Notice of Availability in the Federal Register. A Final Environmental Impact Statement (FEIS) and draft Record of Decision (ROD) will be published after all comments are reviewed and responded to. Objections to the FEIS and draft ROD must be filed 45 days following publication of the legal notice of the “opportunity to object”.

ADDRESSES: Send written comments to John Laurence, Forest Supervisor, Wallowa-Whitman National Forest, c/o Blue Mountains Restoration Strategy, 72510 Coyote Rd., Pendleton, OR 97801. Comments may also be sent via email to: comments-pacificnorthwest-wallowa-whitman@fs.fed.us, or via facsimile to 541-278-3730 c/o Blue Mountains Restoration Strategy.

FOR FURTHER INFORMATION CONTACT: Ayn Shlisky, Blue Mountains Restoration Strategy Team Lead, Umatilla National Forest, 72510 Coyote Rd., Pendleton, OR 97801; phone 541-278-3762. Individuals who use telecommunication devices for the deaf (TDD) may call the Federal Information Relay Service (FIRS) at 1-800-877-8339 between 8 a.m. and 8 p.m., Eastern Time, Monday through Friday.

SUPPLEMENTARY INFORMATION:

Background

The Lower Joseph Creek project area lies adjacent and east of Oregon State Highway 3 on the northern boundary of the Wallowa-Whitman National Forest (WAWNF), approximately 20 miles north of Enterprise. The project area is bounded by Cold Springs Ridge to the northeast, Forest Road 46 to the east, and Elk Mountain to the south. It contains the upper reaches of the Joseph Creek drainage, including the watersheds of Lower and Upper Swamp Creek, Peavine Creek, Rush Creek, Davis Creek, Sumac Creek, Lower and Upper Cottonwood Creeks, Broady Creek, Horse Creek, Cougar Creek, and Green Gulch.

The area is characterized by deep canyons with very steep, grass-covered side slopes interspersed with numerous exposed rock (basalt) layers. Vegetation is generally composed of: (1) Warm/moist forest communities on steep canyon slopes (42% of forested area), (2) warm/dry forests on south-facing slopes, in transitional areas with scablands, and on shallower soils (about 30%), (3) cool/dry forest on gently rolling uplands with deeper soils (26%), and (4) relatively small amounts of wet mixed conifer and subalpine fir/Engelmann spruce forests. Elevations range from about 3600 to 5000 feet.

Purpose and Need for Action

The project takes advantage of effective collaboration between representatives from environmental organizations, timber industry, county governments, the general public, and various government agencies to assess conditions and develop restoration and management strategies in the Lower Joseph Creek project area. All interested parties will have an opportunity to provide input on how this project develops, including the types of treatments, products produced, and monitoring that occurs.

In general, relative to desired conditions, the Lower Joseph Creek project area exhibits: (1) A deficit of forest stands with large trees and open canopies, (2) an overabundance of young open forest stands with relatively dense tree seedling understories (cold and moist forests), (3) a surplus of small diameter downed woody fuel and fuel ladders, (4) reduced understory plant diversity and productivity, (5) reduced grassland extent due to conifer expansion into grassland habitat, (6) improving trends in fish habitat quality and connectivity and opportunities for continued improvement, (7) reduced fire frequencies, and increased vulnerability to uncharacteristic disturbance from wildfire, (8) roads with native surface conditions, and other management impacts to wetlands, springs, riparian areas and stream channels, and (9) opportunities to contribute to the economic vitality of the local community.

Tangible products, such as wood, fiber, firewood, watershed restoration projects, forage, wild edible plants and mushrooms, and income generated from this project would contribute to the stability of highly valued forest and range products infrastructure, family wage earners and local industries. In turn, these products and income will support other local businesses, hospitals, and services contributing to the overall economic vitality of Wallowa County and northeast Oregon. In addition, less tangible but valuable results are expected, such as learning how to build strong working relationships among local collaborators and the Forest Service, developing effective restoration plans, and creating NEPA-ready projects that can be quickly implemented.

The Wallowa-Whitman National Forest is committed to meeting our Federal Trust Responsibility to consult and coordinate with American Indian Tribes. Actions analyzed to meet the purpose and need will address potential effects to treaty reserved rights and cultural resources.

The purpose and need for action is consistent with the 1990 Wallowa-Whitman National Forest Land and Resource Management Plan, as amended (Forest Plan). It is supported by differences between existing and desired ecosystem conditions, as determined from the Forest Plan, local policy recommendations for desired ranges of variation in vegetation conditions, local landscape assessments (e.g., Lower Joseph Creek Watershed Assessment (2013)), collaboration with the Wallowa-Whitman Forest Collaborative and other publics, other agencies, consultation with Tribes, and field reviews. The purpose and need is also driven by goals of the National Cohesive Wildland Fire Management Strategy (2011), particularly goals to restore and maintain landscape resiliency to fire-related disturbances, and reduce risk of wildfire to human communities and infrastructure. The purpose and need is also consistent with the Endangered Species Act for the protection and restoration of Snake River steelhead as well as the Clean Water Act for protection of water quality and waterways in the project area.

Proposed Action

The Forest Service proposes to implement activities across the approximately 98,561 acre Lower Joseph Creek project area. Silviculture treatments would provide a diversity of forest structures that are more in line with desired conditions, and more resilient to anticipated future environmental conditions. Thinning, and mechanical fuel treatments across approximately 20,000 acres would encourage the development of large tree structural characteristics, understory plant diversity, forage productivity, and resilience to disturbances such as wildfire. Thinning of largely younger trees across an additional 5,000 acres, which are in the process of recovery after stand replacement disturbance, would encourage the development of spatial heterogeneity and increase the proportion of early seral tree species. Silvicultural treatments would generally retain and protect large trees of early seral species and trees with old growth physical characteristics consistent with historical reference conditions. Prescribed burning of hazardous fuels, where ecologically appropriate, on up to 90,000 acres would reduce fuel loads, increase understory productivity and diversity, allow fire to perform its natural ecological role, and reduce uncharacteristic disturbance from wildfire, insects, and disease.

Restoration of wetlands and springs would allow these landscape components to play their natural role in providing for effective grazing management, wildlife habitat, and high quality drinking water. Restoration of some riparian areas would protect and restore watershed function. Riparian and flood plain restoration may include road closure or modification, channel reconstruction, fencing, planting, conifer removal, instream structure placement, and bank stabilization.

The transportation system would be managed through road construction, reconstruction, use of temporary roads, and seasonal or permanent closures, as needed to support public access, proposed forest management activities, wildlife habitat quality, and aquatic habitat connectivity. The majority of road-related activities would make use of the existing system road network. A roads analysis will be conducted to assess the transportation system and the appropriate actions needed to meet project and administrative needs, public access, forest plan standards and guidelines, future needs, and consultation guidance for federally listed fish. Approximately 1.5 miles of new system road would be constructed; 24 miles of system road would be reconstructed; and 26 miles of new temporary roads would be constructed. Of the roads that have already been identified for seasonal or permanent closure under past decisions, or that have been naturally closed, 40 miles would be seasonally closed, and approximately 45 miles would be permanently closed or decommissioned, as determined in the roads analysis and an evaluation of each segment's status, future need, and impact on other resources. Roads proposed for any type of closure will focus on resource damage to water quality, fish habitat and wildlife habitat. Where possible, detrimental soil impacts from roads would be mitigated.

In the interest of landscape learning and streamlining NEPA, two Research Natural Areas, which have been proposed for establishment in the WAW Forest Plan (Horse Pasture Ridge (338 acres) and Haystack Rock (425 acres)) would be established and serve as untreated baseline study areas. The establishment of the two RNAs will require no changes in current land management allocations, except for any necessary adjustments to RNA boundaries mapped in the current Forest Plan to facilitate management or correct mapping errors.

Additional benefits of implementation of the proposed action include maintenance and enhancement of culturally significant resources, settings, viewsheds, and sensitive plant and animal species habitat, including those of interest to the Tribes. A monitoring strategy will be developed to support adapting management strategies and sharing lessons learned through time. Input from interested parties and the most current, applicable science will be used to guide this monitoring.

Connected actions that would be included in the analysis include road maintenance, and hazard tree cutting or removal. Fuels associated with silvicultural treatments (activity fuels) would be treated with a suite of available tools including, but not limited to, mastication, removal, pile and burn, cutting and scattering limbs, or prescribed fire.

Project design elements and site specific mitigation measures would be developed during the analysis of individual activity areas to reduce or eliminate unwanted effects, including those affecting tribal resources and cultural values. Mitigation measures may include seasonal operating restrictions, snag creation, and/or soil amendments (e.g., adding biochar) on compacted or detrimental soils.

Forest Plan Amendments

1. The Forest Service proposes to amend the forest plan in some areas to allow for the removal of trees greater than 21″ in diameter at breast height. To ensure conservation of old trees, the project would adopt scientifically-derived guidelines, such as the “Van Pelt guidelines” (2008), to assess tree age regardless of the diameter of individual trees.

2. The Forest Service may need to amend the forest plan, if necessary, to allow tree harvests that restore old growth characteristics, natural ecological processes, or habitat for old growth dependent species in Old Growth Preserves (Forest Plan Management Area 15).

3. The Forest Service may need to amend the forest plan in some areas where restoration activities would not meet visual quality objectives in the short-term.

Responsible Official

The responsible official is the Wallowa-Whitman Forest Supervisor.

Nature of Decision To Be Made

The Forest Supervisor of the Wallowa-Whitman National Forest will decide whether to implement the action as proposed, whether to take no action at this time, or whether to implement any alternatives that are proposed. The Forest Supervisor will also decide whether to amend the 1990 Wallowa-Whitman National Forest Land and Resource Management Plan, if an action alternative is chosen.

Scoping Process

This notice of intent initiates the scoping process, which guides the development of the environmental impact statement. Issues that are raised with the proposal may lead to alternative ways to meet the purpose and need of the project.

It is important that reviewers provide their comments at such times and in such manner that they are useful to the agency's preparation of the environmental impact statement. Therefore, comments should be provided prior to the close of the comment periods and should clearly articulate the reviewer's concerns and contentions.

Comments received in response to this solicitation, including names and addresses of those who comment, will be part of the public record for this proposed action. Comments submitted anonymously will be accepted and considered.

Dated: December 20, 2013.
John Laurence,
Forest Supervisor, Wallowa-Whitman National Forest.

[FR Doc. 2014-00058 Filed 1-8-14; 8:45 am]

BILLING CODE 3410-11-P